CHEMICAL SAFETY AND HAZARD INVESTIGATION BOARD

Sunshine Act Meeting

TIME AND DATE: The meeting will convene at 6:30 p.m. PDT on April 19, 2013.

PLACE: The meeting will be held at Richmond Memorial Auditorium and Convention Center located at 403 Civic Center Plaza, Richmond, CA.

STATUS: Open to the public.

MATTERS TO BE CONSIDERED: CSB investigators will present a proposed interim report and safety recommendations to the Board Members based on the CSB's investigation into a hydrocarbon release and fire that occurred at the Chevron Refinery in Richmond, CA on August 6, 2012.

CSB Investigators have determined that nineteen Chevron employees were engulfed in a vapor cloud formed by the hydrocarbon release. Eighteen employees escaped before the fire started, and one employee escaped without injury after the fire began. Six employees suffered minor injuries. More than 15,000 residents in the surrounding area sought treatment at area medical facilities as a result of the incident. Production at the Chevron facility was suspended for months following the accident.

Following the staff presentation the Board will hear brief comments from the public.

Following the conclusion of the public comment period, the Board will consider and may vote to approve the proposed interim report and safety recommendations. All staff presentations are preliminary and are intended solely to allow the Board to consider in a public forum the issues and factors involved in this case. No proposed factual findings, analyses, or recommendations presented by staff should be considered final until the Board has voted to approve them. The meeting will be free and open to the public. If you require a translator or interpreter, please notify the individual listed below as the “Contact Person for Further Information,” at least five business days prior to the meeting.

The CSB is an independent Federal agency charged with investigating industrial accidents that result in the release of extremely hazardous substances. The agency's Board Members are appointed by the President and confirmed by the Senate. CSB investigations look into all aspects of accidents, including physical causes such as equipment failure, as well as inadequacies in regulations, industry standards, and safety management systems.

CONTACT PERSON FOR FURTHER INFORMATION: Hillary J. Cohen, Communications Manager, hillary.cohen@csb.gov or 202-261-7600. General information about the CSB can be found on the agency Web site at: www.csb.gov.

Dated: April 1, 2013.
Daniel Horowitz,
Managing Director.

[FR Doc. 2013-07896 Filed 4-1-13; 4:15 pm]

BILLING CODE 6350-01-P